DEPARTMENT OF JUSTICE

Drug Enforcement Administration

Manufacturer of Controlled Substances; Notice of Application

Pursuant to section 1301.33(a) of title 21 of the Code of Federal Regulations (CFR), this is notice that on January 28, 2003, Roche Diagnostics Corporation, Attn: Regulatory Compliance, 9115 Hague Road, Indianapolis, Indiana 46250, made application by renewal and on January 29, 2003, by letter to the Drug Enforcement Administration (DEA) for registration as a bulk manufacturer of the basic classes of controlled substances listed below:

Drug | Schedule
Lysergic Acid Diethylamide (7315) | I
Tetrahydrocannabinol (7370) | I
Alphamethadol (9605) | I
Phencyclidine (7471) | II
Benzoylecogonine (9180) | II
Methadone (9250) | II
Morphine (9300) | II

The firm plans to manufacture small quantities of controlled substances for use in diagnostic products.

Any other such applicant and any person who is presently registered with DEA to manufacture such substances may file comments or objections to the issuance of the proposed registration.

Any such comments or objections may be addressed, in quintuplicate, to the Deputy Assistant Administrator, Office of Diversion Control, Drug Enforcement Administration, United States Department of Justice, Washington, DC 20537, Attention: Federal Register Representative, Office of chief Counsel (CCD) and must be filed no later than July 28, 2003.

Dated: May 2, 2003.
Laura M. Nagel,
Deputy Assistant Administrator, Office of Diversion Control, Drug Enforcement Administration.

[FR Doc. 03-13313 Filed 5-28-03; 8:45 am]

BILLING CODE 4410-09-M